DEPARTMENT OF HEALTH AND HUMAN SERVICES

National Institutes of Health

National Center on Minority Health and Health Disparities; Notice of Closed Meetings

Pursuant to section10(d) of the Federal Advisory Committee Act, as amended (5 U.S.C. Appendix 2), notice is hereby given of the following meetings.

The meetings will be closed to the public in accordance with the provisions set forth in sections 552(c)(4) and 552b(c)(6), Title 5 U.S.C., as amended. the grant applications and the discussions could disclose confidential trade secrets or commercial property such as patentable material, and personal information concerning individuals associated with the grant applications, the disclosure of which would constitute a clearly unwarranted invasion of personal privacy.

Name of Committee: National Center on Minority Health and Health Disparities Special Emphasis Panel, MCMHD Community-Based Participatory Research & Outreach.

Date: July 18-20, 2005.

Time: 2 p.m. to 5 p.m.

Agenda: To review and evaluate grant applications.

Place: Embassy Suites at the Chevy Chase Pavilion, 4300 Military Road, NW., Washington, DC 20015.

Contact Person: Merlyn M. Rodrigues, PhD, MD, Director, Office of Extramural Activities, National Center On Minority Health, and Health Disparities, National Institute of Health, 6707 Democracy Blvd. Suite 800, Bethesda, MD 20894, (301) 402-1366, rodrigm1@mail.nih.gov.

Name of Committee: National Center on Minority Health and Health Disparities Special Emphasis Panel, Project EXPORT—Establishing Exploratory Centers.

Date: July 24-26, 2005.

Time: 5 p.m. to 2 p.m.

Agenda: To review and evaluate grant applications.

Place: Embassy Suites at the Chevy Chase Pavilion, 4300 Military Road, NW., Washington, DC 20015.

Contact Person: Lorrita Watson, PhD, National Center on Minority Health and Health Disparities, National Institutes of Health, 6707 Democracy Blvd., Suite 800, Bethesda, MD 20892-5465, 301-594-7784, watsonl@ncmhd.nih.gov.

Dated: June 30, 2005.
LaVerne Y. Stringfield,
Director, Office of Federal Advisory Committee Policy.

[FR Doc. 05-13811 Filed 7-12-05; 8:45 am]

BILLING CODE 4140-01-M